DEPARTMENT OF ENERGY

Federal Energy Regulatory Commission

[Docket No. IC13-14-000]

Commission Information Collection Activities (FERC Form 80); Comment Request; Extension

AGENCY: Federal Energy Regulatory Commission.

ACTION: Notice of information collection and request for comments.

SUMMARY: In compliance with the requirements of the Paperwork Reduction Act of 1995, 44 U.S.C. 3506(c)(2)(A), the Federal Energy Regulatory Commission (Commission or FERC) is soliciting public comment on the currently approved information collection FERC Form 80, Licensed Hydropower Development Recreation Report.

DATES: Comments on the collection of information are due June 24, 2013.

ADDRESSES: You may submit comments (identified by Docket No. IC13-14-000) by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-80, Licensed Hydropower Development Recreation Report

OMB Control No.: 1902-0106

Type of Request: Three-year extension of the FERC Form 80 information collection requirements with no changes to the current reporting requirements. FERC is requesting approval of a formatting revision to the general information portion of the form.

Abstract: FERC uses the information on the FERC Form 80 (also known as “FERC-80,”) to implement the statutory provisions of sections 4(a), 10(a), 301(a), 304 and 309 of the Federal Power Act (FPA), 16 U.S.C. 797, 803, 825c & 8254. FERC's authority to collect this information comes from section 10(a) of the FPA which requires the Commission to be responsible for ensuring that hydro projects subject to FERC jurisdiction are consistent with the comprehensive development of the nation's waterway for recreation and other beneficial public uses. In the interest of fulfilling these objectives, FERC expects licensees subject to its jurisdiction to recognize the resources that are affected by their activities and to play a role in protecting such resources.

FERC Form 80 is a report on the use and development of recreational facilities at hydropower projects licensed by the Commission. Applications for amendments to licenses and/or changes in land rights frequently involve changes in resources available for recreation. FERC utilizes the FERC Form 80 data when analyzing the adequacy of existing public recreational facilities and when processing and reviewing proposed amendments to help determine the impact of such changes. In addition, the FERC regional office staff uses the FERC Form 80 data when conducting inspections of licensed projects. FERC inspectors use the data in evaluating compliance with various license conditions and in identifying recreational facilities at hydropower projects.

The data which FERC Form 80 requires are specified by Title 18 of the Code of Federal Regulations (CFR) under 18 CFR 8.11 and 141.14 (and are discussed at http://www.ferc.gov/docs-filing/forms.asp#80).

FERC collects the FERC Form 80 once every six years. The last collection was due on April 1, 2009, for data compiled during the 2008 calendar year. The next collection of the FERC Form 80 is due on April 1, 2015, with subsequent collections due every sixth year, for data compiled during the previous calendar year.

The Commission updated the format for the general instructions section of the form for improved readability. Specifically, FERC split a long paragraph into several smaller paragraphs.

FERC has attached to this notice the proposed format change to the general information section. FERC made no changes to the remainder of the instructions, form, and glossary and did not attach those to this notice.

Type of Respondents: Hydropower project licensees

Estimate of Annual Burden ¹: For each reporting period, FERC estimates the total Public Reporting Burden for this information collection as: (a) 400 respondents, (b) 1 response/respondent, and (c) 3 hours per response, giving a total of 1,200 burden hours. FERC spreads the burden hours and costs over the six-year collection cycle in the table below. These are the figures FERC will submit to OMB.

¹ FERC defines burden as the total time, effort, or financial resources expended by persons to generate, maintain, retain, or disclose or provide information to or for a Federal agency. For further explanation of what is included in the information collection burden, reference 5 Code of Federal Regulations 1320.3.

² FERC divides the responses per respondent by six because this collection occurs once every six years.

FERC-80—Licensed Hydropower Development Recreation Report
Number of respondents | Number of responses per respondent ² | Total number of responses | Average burden hours per response | Estimated total annual burden
(A) | (B) | (A) × (B) = (C) | (D) | (C) × (D)
400 | 0.167 | 66.8 | 3 | 200

The total estimated annual cost burden to respondents is $14,000 [200 hours * $70/hour ³ = $14,000].

³ FY2013 Estimated Average Hourly Cost per FTE, including salary + benefits.

Comments: The Commission invites comments on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 18, 2013.
Kimberly D. Bose,
Secretary.

[NOTE: The remainder of the FERC Form 80 (instructions, form, and glossary) is unchanged and is not included here.]

Attachment

REVISED GENERAL INFORMATION FORMAT

FERC Form 80, Licensed Hydropower Development Recreation Report

General Information:

This form collects data on recreational resources at projects licensed by the Federal Energy Regulatory Commission (Commission) under the Federal Power Act (16 U.S.C. 791a-825r). This form must be submitted by licensees of all projects except those specifically exempted under 18 CFR 8.11(c).

For regular, periodic filings, submit this form on or before April 1, 2015. Submit subsequent filings of this form on or before April 1, every 6th year thereafter (for example, 2021, 2027, etc.).

For initial Form No. 80 filings (18CFR 8.11(b)), each licensee of an unconstructed project shall file an initial Form No. 80 after such project has been in operation for a full calendar year prior to the filing deadline. Each licensee of an existing (constructed) project shall file an initial Form No. 80 after such project has been licensed for a full calendar year prior to the filing deadline.

Filing electronically is the preferred manner of filing. (See http://www.ferc.gov for more information.) If you cannot file electronically, submit an original and two copies of the form to the: Federal Energy Regulatory Commission, Office of the Secretary, 888 First St. NE., Washington, DC 20426.

The public burden estimated for this form is three hours per response, including the time for reviewing instructions, searching existing data sources, gathering and maintaining the data needed, and completing the collection of information. Send comments regarding the burden estimate or any aspect of this collection of information, including suggestions for reducing burden, to the:

Federal Energy Regulatory Commission (FERC), email to DataClearance@FERC.gov; or mail to FERC, 888 First Street NE., Washington, DC 20426 (Attention: Information Clearance Officer) and

Office of Management and Budget (OMB), email to oira__submission@omb.eop.gov; or mail to OMB, Office of Information and Regulatory Affairs, Attention: Desk Officer for the Federal Energy Regulatory Commission, Washington, DC 20503. Include OMB Control Number 1902-0106 as a point of reference.

No person shall be subject to any penalty for failing to comply with a collection of information if the collection of information does not display a valid control number (44 U.S.C. § 3512(a)).

Instructions:

a. All data reported on this form must represent recreational facilities and services located within the development/project boundary.

b. To ensure a common understanding of terms, please refer to the Glossary.

c. Report actual data for each item. If actual data are unavailable, then please estimate.

Schedule 1. General Data

[FR Doc. 2013-09757 Filed 4-24-13; 8:45 am]

BILLING CODE 6717-01-P